DEPARTMENT OF THE INTERIOR

Office of the Secretary

Exxon Valdez Oil Spill Trustee Council; Request for Nominations

AGENCY: Office of the Secretary, Department of the Interior.

ACTION: Notice.

SUMMARY: The Exxon Valdez Oil Spill Trustee Council is soliciting nominations for the Public Advisory Committee, which advises the Trustee Council on decisions related to the planning, evaluation, and conduct of injury assessment, restoration, long-term monitoring, and research activities using funds obtained as part of the civil settlement pursuant to the T/V Exxon Valdez oil spill of 1989. Public Advisory Committee members will be selected to serve a 24-month term beginning in October 2004.

DATES: All nominations should be received on or before July 20, 2004.

ADDRESSES: Nominations should be sent to Executive Director, Exxon Valdez Oil Spill Trustee Council, 441 West 5th Avenue, Suite 500, Anchorage, Alaska 99501-2340 or by email to PAC Nominations, Executive Director, c/o Brenda Hall, brenda_hall@evostc.state.ak.us.

FOR FURTHER INFORMATION CONTACT: Douglas Mutter, Designated Federal Officer, Department of the Interior, Office of Environmental Policy and Compliance, 1689 “C” Street, Suite 119, Anchorage, Alaska 99501, 907-271-5011; or Cherri Womac, Exxon Valdez Oil Spill Trustee Council, 441 West 5th Avenue, Suite 500, Anchorage, Alaska 99501-2340, 907-278-8012 or 800-478-7745. A copy of the charter for the Public Advisory Committee is available upon request.

SUPPLEMENTARY INFORMATION: The Public Advisory Committee was created by Paragraph V.A.4 of the Memorandum of Agreement and Consent Decree entered into by the United States of America and the State of Alaska on August 27, 1991, and approved by the United States District Court for the District of Alaska in settlement of United States of America v. State of Alaska, Civil Action No. A91-081 CV. The Public Advisory Committee was created to advise the Trustee Council on matters relating to decisions on injury assessment, restoration activities or other use of natural resources damage recoveries obtained by the governments.

The Trustee Council consists of representatives of the State of Alaska Attorney General; Commissioner of the Alaska Department of Fish and Game; Commissioner of the Alaska Department of Environmental Conservation; the Secretary of the Interior; the Secretary of Agriculture; and the Administrator of the National Oceanic and Atmospheric Administration, U.S. Department of Commerce. Appointment to the Public Advisory Committee will be made by the Secretary of the Interior with unanimous approval of the Trustees.

The Public Advisory Committee consists of 20 members representing the public at large and the following special interests: Aquaculture and mariculture, commercial fishing, commercial tourism, conservation and environmental, local government, Native land owners, Tribal government, recreation users, sport hunting and fishing, subsistence, marine transportation, regional monitoring programs, and science/technical.

Nominees need to submit the following information to the Trustee Council:

1. Nominee's name;

2. Nominee's email address;

3. Nominee's mailing address;

4. Nominee's telephone number;

5. Special interests the nominee represents;

6. A resume or one-page synopsis of the nominee's:

a. education;

b. affiliations;

c. knowledge of the region, peoples or principal economic and social activities of the area affected by the T/V Exxon Valdez oil spill;

d. expertise in public lands and resource management, if any;

e. breadth of experience and perspective and length of experience in one or more of the special interests; and

7. Indicate if the person being nominated has been contacted and agrees to consider serving if selected.

Willie R. Taylor,
Director, Office of Environmental Policy and Compliance.

[FR Doc. 04-14281 Filed 6-23-04; 8:45 am]

BILLING CODE 4310-RG-P